DEPARTMENT OF COMMERCE

National Oceanic and Atmospheric Administration

50 CFR Part 660

[Docket No. 180625576-8999-02]

RIN 0648-BJ36

Magnuson-Stevens Act Provisions; Fisheries Off West Coast States; Pacific Coast Groundfish Fishery; 2019-2020 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action is intended to allow commercial fishing vessels to access more abundant groundfish stocks while protecting overfished and depleted stocks.

DATES: This final rule is effective October 21, 2019.

FOR FURTHER INFORMATION CONTACT: Karen Palmigiano, phone: 206-526-4491 or email: karen.palmigiano@noaa.gov.

Electronic Access

This rule is accessible via the internet at the Office of the Federal Register website at https://www.federalregister.gov. Background information and documents are available at the Pacific Fishery Management Council's website at http://www.pcouncil.org/.

SUPPLEMENTARY INFORMATION:

Background

The Pacific Coast Groundfish Fishery Management Plan (PCGFMP) and its implementing regulations at title 50 in the Code of Federal Regulations (CFR), part 660, subparts C through G, regulate fishing for over 90 species of groundfish off the coasts of Washington, Oregon, and California. The Pacific Fishery Management Council (Council) develops groundfish harvest specifications and management measures for two-year periods (i.e., a biennium). NMFS published the final rule to implement harvest specifications and management measures for the 2019-2020 biennium for most species managed under the PCGFMP on December 12, 2018 (83 FR 63970). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its September 12-18, 2019 meeting, the Council recommended increasing the limited entry fixed gear (LEFG) and open access (OA) trip limits for sablefish both north of 36° N lat. Pacific Coast groundfish fisheries are managed using harvest specifications or limits (e.g., overfishing limits [OFL], acceptable biological catch [ABC], annual catch limits [ACL] and harvest guidelines [HG]) recommended biennially by the Council and based on the best scientific information available at that time (50 CFR 660.60(b)). During development of the harvest specifications, the Council also recommends mitigation measures (e.g., trip limits, area closures, and bag limits) that are meant to mitigate catch so as not to exceed the harvest specifications. The harvest specifications and mitigation measures developed for the 2019-2020 biennium used data through the 2017 fishing year. Each of the adjustments to mitigation measures discussed below are based on updated fisheries information that was unavailable when the analysis for the current harvest specifications was completed. As new fisheries data becomes available, adjustments to mitigation measures are projected so as to help harvesters achieve but not exceed the harvest limits.

Sablefish is an important commercial species on the west coast with vessels targeting sablefish with both trawl and fixed gear (longlines and pots/traps). Sablefish is managed with a coast-wide ACL that is apportioned north and south of 36° N lat. with 73.8 percent going to the north and 26.2 percent going to the south. In 2019, the portion of the ACL for sablefish north of 36° N lat. is 5,606 mt with a fishery HG of 5,007 mt. The fishery HG north of 40°10′ N lat. is further divided between the LEFG and OA sectors with 90.6 percent, or 4,537 mt, going to the LEFG sector and 9.4 percent, or 471 mt, going to the OA sector. The 2019 portion of ACL for sablefish south of 36° N lat. is 1,990 mt with a fishery HG of 1,986 mt. South of 36° N lat., the fishery HG is further divided between the trawl (limited entry) and non-trawl (LEFG and OA) sectors with 42 percent or 834 mt going to the trawl sector, and the remaining 58 percent or 1,152 mt going to the fixed gear sector.

At the September 2019 Council meeting, the Council's Groundfish Management Team (GMT) received requests from industry members and members of the Council's Groundfish Advisory Subpanel to examine the potential to increase sablefish trips limits for the LEFG and OA fisheries north of 36° N lat. The intent of increasing trip limits is to increase harvest opportunities for vessels targeting sablefish which have been trending low in recent years. To evaluate potential increases to sablefish trip limits, the GMT made model-based landings projections under current regulations and alternative sablefish trip limits, including the limits ultimately recommended by the Council, for the LEFG and OA fisheries through the remainder of the year. Table 1 shows the projected sablefish landings, the sablefish allocations, and the projected attainment percentage by fishery under both the current trip limits and the Council's recommended adjusted trip limits. These projections were based on the most recent catch information available through early September 2019. Industry did not request changes to sablefish trip limits for the LEFG or OA fishery south of 36° N lat. Therefore, NMFS and the Council did not consider trip limit changes for these fisheries at this time.

Table 1—Projected Landings of Sablefish, Sablefish Allocation, and Projected Percentage of Sablefish Attained Through the End of the Year by Trip Limit and Fishery
Fishery | Trip limits | Projected landings (round weight) (mt) | Allocation (mt) | Projected percentage attained
LEFG North of 36° N lat | Current: 1,300 lb (560 kg)/week, not to exceed 3,900 lb (1,769 kg)/two months | 190-213 | 273 | 70-78
| Recommended: 1,700 lb (771 kg)/week, not to exceed 5,100 lb (2,313 kg)/two months | 247-283 |  | 90-104
OA North of 36° N lat | Current: 300 lb (136 kg)/day, or 1 landing per week of up to 1,400 lb (635 kg), not to exceed 2,800 lb (1,179 kg)/two months | 340-420 | 449 | 75-93
| Recommended: 300 lb (136 kg)/day, or 1 landing per week of up to 1,500 lb (680 kg), not to exceed 3,000 lb (1,361 kg)/two months | 360-460 |  | 81-102

As shown in Table 1, under the current trip limits, the model predicts catches of sablefish will be at or below 78 percent, or 213 mt of the 273 mt allocation, for LEFG and 93 percent, or 420 mt of the 449 mt allocation, for OA fishery north of 36° N lat. Under the Council's recommended trip limits, sablefish attainment is projected to increase in the LEFG and OA fisheries north of 36° N lat. up to 104 and 102 percent, respectively. However, to date in 2019, the model has overestimated landings by an average of 38 percent. Assuming this trend continues for 2019, the percentage attainment would likely be closer to the lower bound for both LEFG (90 percent or 247 mt) and OA (81 percent or 360 mt) north of 36° N lat.

Trip limit increases for sablefish are intended to increase attainment of the non-trawl HG. The proposed trip limit increases do not change projected impacts to co-occurring overfished species compared to the impacts anticipated in the 2019-20 harvest specifications because the projected impacts to those species assume that the entire sablefish ACL is harvested. Therefore, the Council recommended and NMFS is implementing, by modifying Tables 2 North and South to part 660, subpart E, trip limit changes for the LEFG fishery north of 36° N lat. to increase the limits from “1,300 lb (560 kg)/week, not to exceed 3,900 lb (1,769 kg)/two months” to “1,700 lb (771 kg)/week, not to exceed 5,100 lb (2,313 kg)/two months” beginning in period 5 (September and October) through the end of the year. NMFS is also implementing, by modifying Tables 3 North and South to part 660, subpart F, trip limit changes for the OA sablefish fishery north of 36° N lat. to increase the limits from “300 lb (136 kg)/day, or 1 landing per week of up to 1,400 lb (635 kg), not to exceed 2,800 lb (1,179 kg)/two months” to “300 lb (136 kg) per day, or one landing per week of up to 1,500 lb (680 kg), not to exceed 3,000 lb (1,360 kg) per two months” starting with period 5 (September and October) through the end of the year.

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting Karen Palmigiano in NMFS West Coast Region (see FOR FURTHER INFORMATION CONTACT, above), or view at the NMFS West Coast Groundfish website: http://www.westcoast.fisheries.noaa.gov/fisheries/groundfish/index.html.

Pursuant to 5 U.S.C. 553(b), NMFS finds good cause to waive prior public notice and an opportunity for public comment on this action, as notice and comment would be impracticable and contrary to the public interest. The adjustments to management measures in this document ease restrictive trip limits fisheries in Washington, Oregon, and California. No aspect of this action is controversial, and changes of this nature were anticipated in the final rule for the 2019-2020 harvest specifications and management measures which published on December 12, 2018 (83 FR 63970).

At its September 2019 meeting, the Council recommended increases to the commercial trip limits be implemented as soon as possible so that harvesters may be able to take advantage of these higher limits before the end of the calendar year. Each of the adjustments to commercial management measures in this rule will create more harvest opportunity and allow fishermen to better attain species that are currently under attained without causing any additional impacts to the fishery. Each of these recommended adjustments also rely on new catch data that were not available and thus not considered during the 2019-2020 biennial harvest specifications process. New catch information through the end of the 2018 fishing year shows that attainment of sablefish) has been below its management points (i.e., HG, ACL, and non-trawl allocation) in 2018 and would likely remain below state catch targets under status quo limits in 2019 and 2020.

These trip limit adjustments could provide up to an additional $508-thousand in ex-vessel revenue to harvesters, as well as $1.04-million in income and 16 jobs when including benefits to communities and associated businesses. Delaying implementation to allow for public comment would likely reduce the economic benefits to the commercial fishing industry and the businesses that rely on that industry because it is unlikely the new regulations would publish and could be implemented before the end of the calendar year. Therefore, providing a comment period for this action could significantly limit the economic benefits to the fishery, and would hamper the achievement of optimum yield from the affected fisheries.

Therefore, the NMFS finds reason to waive the 30-day delay in effectiveness pursuant to 5 U.S.C. 553(d)(1) so that this final rule may become effective upon publication in the Federal Register. The adjustments to management measures in this document affect commercial fisheries by increasing opportunity and relieving participants of the more restrictive trip limits. These adjustments were requested by the Council's advisory bodies, as well as members of industry during the Council's September 2019 meetings, and recommended unanimously by the Council. No aspect of this action is controversial, and changes of this nature were anticipated in the biennial harvest specifications and management measures established through a notice and comment rulemaking for 2019-2020 (83 FR 63970).

List of Subjects in 50 CFR Part 660

Fisheries, Fishing, and Indian Fisheries.

Dated: October 15, 2019.
Alan D. Risenhoover,
Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 2 (North) to part 660, subpart E, is revised to read as follows:

BILLING CODE 3510-22-P

3. Table 2 (South) to part 660, subpart E, is revised to read as follows:

4. Table 3 (North) to part 660, subpart F, is revised to read as follows:

5. Table 3 (South) to part 660, subpart F, is revised to read as follows:

[FR Doc. 2019-22785 Filed 10-18-19; 8:45 am]

BILLING CODE 3510-22-C